DEPARTMENT OF TRANSPORTATION

National Highway Traffic Safety Administration

Reports, Forms, and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register notice with a 60-day comment period was published on February 28, 2002 (67 FR 9353-9354).

DATES: Comments must be submitted on or before November 6, 2002.

ADDRESSES: Send comments, within 30 days, to the Office of Information and Regulatory Affairs, Office of Management and Budget, 725-17th Street, NW., Washington, DC 20503, Attention NHTSA Desk Officer.

FOR FURTHER INFORMATION CONTACT: Alan Block at the National Highway Traffic Safety Administration, Office of Research and Technology (NTI-130), 202-366-6401, 400 Seventh Street, SW., Room 6240, Washington, DC 20590.

SUPPLEMENTARY INFORMATION:

National Highway Traffic Safety Administration

Title: 2002 Motor Vehicle Occupant Safety Survey.

OMB Number: 2127-New.

Type of Request: New information collection requirement.

Abstract: The Motor Vehicle Occupant Safety Survey (MVOSS) is conducted biennially for the National Highway Traffic Safety Administration to collect data on occupant protection issues. It is a national telephone survey composed of two questionnaires, each administered to a randomly selected sample of approximately 6,000 persons age sixteen and older. One questionnaire focuses on attitudes, knowledge, and self-reported behavior regarding seat belts, while the other questionnaire focuses on child restraint use. Additional topics addressed by the survey include air bags, emergency medical services, and crash injury experience. The proposed survey is the fifth in the MVOSS series. The 2002 Motor Vehicle Occupant Safety Survey will collect data on topics included in the preceding surveys in order to monitor change over time in the use of occupant protection devices and in attitudes and knowledge related to motor vehicle occupant safety. The survey will also include new questions that address emergent issues in occupant protection.

Affected Public: Randomly selected members of the general public aged sixteen and older in telephone households.

Estimated Total Annual Burden: 4,000 hours.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued on: October 2, 2002.
Marilena Amoni,
Associate Administrator for Program Development and Delivery.

[FR Doc. 02-25465 Filed 10-4-02; 8:45 am]

BILLING CODE 4910-59-P